DEPARTMENT OF COMMERCE

National Oceanic and Atmospheric Administration

50 CFR Part 679

[Docket No. 991210331-0017-02; I.D. 102899B]

RIN 0648-AN34

Fisheries of the Exclusive Economic Zone off Alaska; Inshore Fee System for Repayment of the Loan to Harvesters of Pollock from the Directed Fishing Allowance Allocated to the Inshore Component Under Section 206(b)(1) of the American Fisheries Act (AFA); Correction

AGENCY: National Marine Fisheries Service (NMFS), National Oceanic and Atmospheric Administration (NOAA), Commerce.

ACTION: Final rule; correction.

SUMMARY: NMFS published in the Federal Register of February 3, 2000, a document implementing an inshore fee system for all pollock harvested under the inshore component (IC) of the Bering Sea/Aleutian Islands (BS/AI) directed fishing allowance under section 206(b)(1) of the AFA. The fee system provides the means of repaying a $75 million loan to reduce fishing capacity in that fishery. Fees are first due and payable under the inshore fee system on February 10, 2000. Although the fee system provisions were established in a separate subpart G of part 679, the section numbering was duplicated inadvertently in another recently published BS/AI rule. The intent of this rule is to correct that error by renumbering the sections of Subpart G as §§ 679.70-679.76.

DATES: Effective February 10, 2000.

FOR FURTHER INFORMATION CONTACT: Michael L. Grable, (301) 713-2390.

SUPPLEMENTARY INFORMATION: NMFS published a document in the Federal Register of February 3, 2000, (65 FR 5278)establishing a new subpart G consisting of §§ 679.60-679.66 to implement an inshore fee system for all pollock harvested under the IC of the BS/AI directed fishing allowance. Less than a week earlier, NMFS had published a document in the Federal Register of January 28, 2000, (65 FR 4520) establishing a new subpart F consisting of §§ 679.59-679.64 to implement major provisions of the AFA including sideboard directed fishing closures. Thus, §§ 679.60-679.64 of the rule published on January 28, 2000, would be replaced by the unrelated rule published on February 3, 2000. This correction renumbers the new subpart G as §§ 679.70-679.76. In addition, the reference to the definitions section of part 679 is corrected from § 679.01 to § 679.02.

In rule FR Doc. 00-2284, published on Thursday, February 3, 2000 (65 FR 5278) make the following corrections:

1. On page 5279, in the third column, fourth complete paragraph, second line, correct “§ 679.64” to read “§ 679.74”.

2. On page 5279, in the third column, sixth complete paragraph, second line, correct “§ 679.63” to read “§ 679.73”.

3. On page 5279, in the third column, eighth complete paragraph, third line, correct “§ 679.60” to read “§ 679.70”.

4. On page 5280, in the first column, fourth complete paragraph, fourth line, correct “§ 679.64” to read “§ 679.74”.

5. On page 5280, in the first column, eighth complete paragraph, first line, correct “§ 679.60” to read “§ 679.70”.

6. On page 5280, in the first column, ninth complete paragraph, first line, correct “§ 679.61” to read “§ 679.71”.

7. On page 5280, in the first column, tenth complete paragraph, first line, correct “§ 679.63” to read “§ 679.73”.

8. On page 5280, in the first column, eleventh complete paragraph, first line, correct “§ 679.64” to read “§ 679.74”.

9. On page 5281, in the first column, correct the section numbers in the table of contents for subpart G from §§ 679.60-679.66 to §§ 679.70-679.76.

10. Sections 679.60 through 679.66 appearing on pages 5281 through 5283 are correctly designated as §§ 679.70 through 679.76.

11. On page 5281, in the first column, in corrected §679.70, second line, correct “§ 679.1” to read “§ 679.2”.

12. On page 5282, in the second column, in corrected §679.73(c), last line, correct “§ 679.62(b)(1)” to read “§ 679.72(b)(1)”.

Dated: February 8, 2000.
Don Knowles,
Acting Assistant Administrator for Fisheries, National Marine Fisheries Service.

[FR Doc. 00-3214 Filed 2-9-00; 9:10 am]

BILLING CODE 3510-22-F